DEPARTMENT OF AGRICULTURE

Animal and Plant Health Inspection Service

7 CFR Part 301

[Docket No. 00-037-4]

RIN 0579-AB15

Citrus Canker; Payments for Recovery of Lost Production Income

Correction

In rule document 01-15320 beginning on page 32713 in the issue of Monday, June 18, 2001, make the following correction:

§301.75-16 [Corrected]

On page 32717, in §301.75-16(c), in the third column, in the sixth line, the date “August 17, 2001” should read “September 17, 2001 ”.

[FR Doc. C1-15320 Filed 6-22-01; 8:45 am]

BILLING CODE 1505-01-D

DEPARTMENT OF COMMERCE

International Trade Administration

Application for Duty-Free Entry of Scientific Instrument

Correction

In notice document 01-15074 beginning on page 32600, in the issue of Friday, June 15, 2001 make the following correction:

On page 32601, in the first column, in the second full paragraph, in the 11th line, “(La,Ca)MnOq3” should read “(La,Ca)MnO3”.

[FR Doc. C1-15074 Filed 6-22-01; 8:45 am]

BILLING CODE 1505-01-D

DEPARTMENT OF COMMERCE

National Oceanic and Atmospheric Administration

[I.D. 061101C]

Cooperative Tagging Center; Fish Tagging Report

Correction

In notice document 01-15057 appearing on page 32317 in the issue of Thursday, June 14, 2001, make the following correction:

In the second column, in the DATES section, “July 16, 2001.” should read “August 13, 2001.”.

[FR Doc. C1-15057 Filed 6-22-01; 8:45 am]

BILLING CODE 1505-01-D

ENVIRONMENTAL PROTECTION AGENCY

40 CFR Part 52

[SIP NO. MT-001-0030a; FRL-6985-8]

Clean Air Act Approval and Promulgation of Air Quality Implementation Plan; Montana; East Helena Lead State Implementation Plan

Correction

In rule document 01-15143 beginning on page 32767, in the issue of Monday, June 18, 2001, make the following correction:

On page 32767, in the second column, under the heading Definitions, in paragraph (iv), in the first line, “MDEQA” should read “MDEQ”.

[FR Doc. C1-15143 Filed X-XX-01; 8:45 am]

BILLING CODE 1505-01-D

DEPARTMENT OF THE INTERIOR

Bureau of Land Management

[MT-924-1430-ET; MTM 39381]

Opening of Land; Montana

Correction

In notice document 01-15108 appearing on page 32642 in the issue of Friday, June 15, 2001, make the following correction:

In the third column, under SUPPLEMENTARY INFORMATION:, in the second paragraph, in the first line “(publication date)” should read “June 15, 2001”.

[FR Doc. C1-15108 Filed 6-22-01; 8:45 am]

BILLING CODE 1505-01-D

DEPARTMENT OF THE INTERIOR

Office of Hearings and Appeals

43 CFR Part 4

RIN 1090-AA78

Trust Management Reform; Probate of Indian Trust Estates

Correction

PART 4—[CORRECTED]

In rule document 01-15166 beginning on page 32882 in the issue of Monday, June 18, 2001, make the following corrections:

1. On page 32888, in the second column, in line 17, “office of Hearings and Appeals,” should read “Office of Hearings and Appeals,”.

§4.201 [Corrected]

2. On the same page, in the third column, in §4.201, in paragraphÿ7E (3), ÿ7E“decedent to their heirs,” should read “decedent to the heirs,”.

§4.202 [Corrected]

3. On page 32889, in the first column, in ÿ7E§4.202, in line 15, “devicees” should read “devisees”.

§4.251 [Corrected]

4. On the same page, in the third column, in §4.251(a), in the third line, “many” should read “may”.

5. On the same page, in the same column, in §4.251(b)(4), “Claims for” should read “Claims of”.

6. On the same page, in the same column, in §4.251(d), in the last line, “entirely.” should read “entirety.”.

§4.270 [Corrected]

7. On page 32890, in the first column, in §4.270, in the third line from the bottom, “of deceased” should read “of a deceased”.

§4.273 [Corrected]

8. On the same page, in the third column, in §4.273(b), in the 11th line, “proceeding” should read “proceedings”.

§4.320 [Corrected]

9. On the same page, in the same column, in §4.320(a), in the second line, “from and order” should read “from an order”.

[FR Doc. C1-15166 Filed 6-22-01; 8:45 am]

BILLING CODE 1505-01-D